DEPARTMENT OF TRANSPORTATION

Federal Aviation Administration

14 CFR Part 39

[Docket No. FAA-2021-0672; Project Identifier MCAI-2021-00304-R; Amendment 39-21693; AD 2021-17-10]

RIN 2120-AA64

Airworthiness Directives; Leonardo S.p.a Helicopters

AGENCY: Federal Aviation Administration (FAA), DOT.

ACTION: Final rule; request for comments.

SUMMARY: The FAA is adopting a new airworthiness directive (AD) for certain Leonardo S.p.a. Model A109A, A109A II, A109C, A109E, A109K2, A109S, and AW109SP helicopters, having a certain rotor brake kit installed. This AD was prompted by a report of un-commanded activation of the rotor brake system before take-off due to a jammed rotor brake control cable and subsequent partially open brake control valve. This AD requires repetitive inspections of the rotor brake control cable and replacement of the rotor brake control cable, if necessary, as specified in a European Union Aviation Safety Agency (EASA) AD, which is incorporated by reference. The FAA is issuing this AD to address the unsafe condition on these products.

DATES: This AD becomes effective September 7, 2021.

The Director of the Federal Register approved the incorporation by reference of a certain publication listed in this AD as of September 7, 2021.

The FAA must receive comments on this AD by October 4, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material incorporated by reference (IBR) in this AD, contact the EASA, Konrad-Adenauer-Ufer 3, 50668 Cologne, Germany; phone: +49 221 8999 000; email: ADs@easa.europa.eu; internet: www.easa.europa.eu. You may find this material on the EASA website at https://ad.easa.europa.eu. You may view this material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2021-0672.

Examining the AD Docket

You may examine the AD docket on the internet at https://www.regulations.gov by searching for and locating Docket No. FAA-2021-0672; or in person at Docket Operations between 9 a.m. and 5 p.m., Monday through Friday, except Federal holidays. The AD docket contains this AD, any comments received, and other information. The street address for Docket Operations is listed above. Comments will be available in the AD docket shortly after receipt.

FOR FURTHER INFORMATION CONTACT: Darren Gassetto, Aerospace Engineer, COS Program Management Section, Operational Safety Branch, FAA, 1600 Stewart Ave., Suite 410, Westbury, NY 11590; phone: (516) 228-7323; email: Darren.Gassetto@faa.gov.

SUPPLEMENTARY INFORMATION:

Background

EASA, which is the Technical Agent for the Member States of the European Union, has issued EASA AD 2021-0067, dated March 9, 2021 (EASA AD 2021-0067), to correct an unsafe condition on Leonardo S.p.a. (formerly Finmeccanica S.p.A., AgustaWestland S.p.A., Agusta S.p.A., Costruzioni Aeronautiche Giovanni Agusta) Model A109A, A109AII, A109C, A109E, A109K2, A109S, and AW109SP helicopters with a certain rotor brake kit installed.

EASA AD 2021-0067 was prompted by a report of un-commanded activation of the rotor brake system before take-off due to a jammed rotor brake control cable and subsequent partially open brake control valve. This resulted in hydraulic pressure delivered to the rotor brake, even with the rotor brake lever in the OFF position. To address this condition, EASA AD 2021-0067 requires repetitive inspections of the rotor brake control cable and replacement, if necessary. The FAA is issuing this AD to address un-commanded activation of the rotor brake system, which could lead to failure of the rotor brake system with consequent damage to surrounding critical equipment, resulting in loss of control of the helicopter.

Related IBR Material Under 1 CFR Part 51

EASA AD 2021-0067 specifies, within 50 hours and thereafter at intervals not to exceed 100 hours, repetitively inspecting the rotor brake control cable and replacing the control cable if the cylindrical nipple does not rotate freely, if the control cable jams when running inside the sheath, or if there is any damage or wear. EASA AD 2021-0067 also prohibits installing an affected rotor brake control cable on any helicopter unless it first passes the required inspection and requires reporting information to the manufacturer. This material is reasonably available because the interested parties have access to it through their normal course of business or by the means identified in the ADDRESSES section.

FAA's Determination

These products have been approved by EASA and are approved for operation in the United States. Pursuant to the FAA's bilateral agreement with the European Union, EASA has notified the FAA of the unsafe condition described in its AD. The FAA is issuing this AD after determining that the unsafe condition described previously is likely to exist or develop on other products of these same type designs.

Requirements of This AD

This AD requires accomplishing the actions specified in EASA AD 2021-0067, described previously, as incorporated by reference, except for any differences identified in the regulatory text of this AD.

Explanation of Required Compliance Information

In the FAA's ongoing efforts to improve the efficiency of the AD process, the FAA initially worked with Airbus and EASA to develop a process to use some EASA ADs as the primary source of information for compliance with requirements for corresponding FAA ADs. The FAA has since coordinated with other manufacturers and civil aviation authorities to use this process. As a result, EASA AD 2021-0067 is incorporated by reference in this FAA final rule. This AD would, therefore, require compliance with EASA AD 2021-0067 in its entirety, through that incorporation, except for any differences identified in the regulatory text of this AD. Using common terms that are the same as the heading of a particular section in the EASA AD does not mean that operators need comply only with that section. For example, where the AD requirement refers to “all required actions and compliance times,” compliance with this AD requirement is not limited to the section titled “Required Action(s) and Compliance Time(s)” in the EASA AD. Service information required by EASA AD 2021-0067 for compliance is available on the internet at https://www.regulations.gov by searching for and locating Docket No. FAA-2021-0672.

FAA's Justification and Determination of the Effective Date

Section 553(b)(3)(B) of the Administrative Procedure Act (5 U.S.C.) authorizes agencies to dispense with notice and comment procedures for rules when the agency, for “good cause” finds that those procedures are “impracticable, unnecessary, or contrary to the public interest.” Under this section, an agency, upon finding good cause, may issue a final rule without seeking comment prior to the rulemaking.

An unsafe condition exists that requires the immediate adoption of this AD without providing an opportunity for public comments prior to adoption. The FAA has found that the risk to the flying public justifies waiving notice and comment prior to adoption of this rule because un-commanded activation of the rotor brake system due to a jammed rotor brake control cable and subsequent partially open brake control valve could lead to failure of the rotor brake system, with consequent loss of control of the helicopter. In addition, the compliance time for the required action is shorter than the time necessary for the public to comment and for publication of the final rule. Based on the average flight-hour utilization rates of these helicopters, the initial corrective actions must be completed within about two months. Therefore, notice and opportunity for prior public comment are impracticable and contrary to public interest pursuant to 5 U.S.C. 553(b)(3)(B). In addition, the FAA finds that good cause exists pursuant to 5 U.S.C. 553(d) for making this amendment effective in less than 30 days.

Comments Invited

The FAA invites you to send any written relevant data, views, or arguments about this AD. Send your comments to an address listed under ADDRESSES. Include “Docket No. FAA-2021-0672; Project Identifier MCAI-2021-00304-R” at the beginning of your comments. The most helpful comments reference a specific portion of the AD, explain the reason for any recommended change, and include supporting data. The FAA will consider all comments received by the closing date and may amend this AD because of those comments.

Except for Confidential Business Information (CBI) as described in the following paragraph, and other information as described in 14 CFR 11.35, the FAA will post all comments received, without change, to https://www.regulations.gov, including any personal information you provide. The agency will also post a report summarizing each substantive verbal contact received about this AD.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Darren Gassetto, Aerospace Engineer, COS Program Management Section, Operational Safety Branch, FAA, 1600 Stewart Ave., Suite 410, Westbury, NY 11590; phone: (516) 228-7323; email: Darren.Gassetto@faa.gov. Any commentary that the FAA receives that is not specifically designated as CBI will be placed in the public docket for this rulemaking.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 153 helicopters of U.S. registry. The FAA estimates the following costs to comply with this AD:

Estimated Costs for Inspection
Labor cost | Parts cost | Cost per helicopter | Cost on U.S. operators
1 work-hour × $85 per hour = $85 | $0 | $85 per inspection cycle | $13,005 per inspection cycle.

The FAA estimates the following costs to do any on-condition replacement that would be required based on the results of the inspections. The FAA has no way of determining the number of helicopters that might need this replacement:

Estimated Costs of On-Condition Actions *
Action | Labor cost | Parts cost | Cost per helicopter
Replacement | 3 work-hours × $85 per hour = $255 | $615 | $870
Reporting | 1 work-hour × $85 per hour = $85 | 0 | 85

The FAA has included all known costs in this cost estimate. According to the manufacturer, however, some or all of the costs of this AD may be covered under warranty, thereby reducing the cost impact on affected operators.

Paperwork Reduction Act

A federal agency may not conduct or sponsor, and a person is not required to respond to, nor shall a person be subject to penalty for failure to comply with a collection of information subject to the requirements of the Paperwork Reduction Act unless that collection of information displays a currently valid OMB control number. The OMB control number for this information collection is 2120-0056. Public reporting for this collection of information is estimated to be approximately 1 hour per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Pkwy., Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD would not have federalism implications under Executive Order 13132. This AD would not have a substantial direct effect on the States, on the relationship between the national Government and the States, or on the distribution of power and responsibilities among the various levels of government.

For the reasons discussed above, I certify this regulation:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-17-10 Leonardo S.p.a: Amendment 39-21693; Docket No. FAA-2021-0672; Project Identifier MCAI-2021-00304-R.

(a) Effective Date

This airworthiness directive (AD) becomes effective September 7, 2021.

(b) Affected ADs

None.

(c) Applicability

This AD applies to Leonardo S.p.a. Model A109A, A109A II, A109C, A109E, A109K2, A109S, and AW109SP helicopters, certificated in any category, with a rotor brake kit identified in European Union Aviation Safety Agency (EASA) AD 2021-0067, dated March 9, 2021 (EASA AD 2021-0067).

(d) Subject

Joint Aircraft System Component (JASC) Codes 6321, Main Rotor Brake.

(e) Unsafe Condition

This AD was prompted by a report of un-commanded activation of the rotor brake system before take-off due to a jammed rotor brake control cable and subsequent partially open brake control valve. The FAA is issuing this AD to address un-commanded activation of the rotor brake system, which could lead to failure of the rotor brake system, with consequent damage to surrounding critical equipment, and loss of control of the helicopter.

(f) Compliance

Comply with this AD within the compliance times specified, unless already done.

(g) Requirements

Except as specified in paragraph (h) of this AD: Comply with all required actions and compliance times specified in, and in accordance with, EASA AD 2021-0067.

(h) Exceptions to EASA AD 2021-0067

(1) Where EASA AD 2021-0067 requires compliance from its effective date, this AD requires using the effective date of this AD.

(2) This AD does not require the “Remarks” section of EASA AD 2021-0067.

(3) Where EASA AD 2021-0067 requires compliance in terms of flight hours (FH), this AD requires using hours time-in-service.

(4) Where paragraph (2) of EASA AD 2021-0067 requires replacing the affected part if any defect is found, for purposes of this AD, a defect also includes compromised integrity of the control cable strands (e.g., fraying or a kink).

(5) Where the service information required by EASA AD 2021-0067 specifies replacing the affected part if any damage is found, for purposes of this AD, damage includes clicks or breakings when the rotor brake lever is moved forward and backward.

(i) Special Flight Permit

Special flight permits may be issued in accordance with 14 CFR 21.197 and 21.199 to operate the helicopter to a location where the actions of this AD can be performed, provided the rotor brake system is de-activated or rendered inoperable.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Darren Gassetto, Aerospace Engineer, COS Program Management Section, Operational Safety Branch, FAA, 1600 Stewart Ave., Suite 410, Westbury, NY 11590; phone: (516) 228-7323; email: Darren.Gassetto@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2021-0067, dated March 9, 2021.

(ii) [Reserved]

(3) For EASA AD 2021-0067, contact the EASA, Konrad-Adenauer-Ufer 3, 50668 Cologne, Germany; phone: +49 221 8999 000; email: ADs@easa.europa.eu; internet: www.easa.europa.eu. You may find this EASA AD on the EASA website at https://ad.easa.europa.eu.

(4) You may view this service information at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2021-0672.

(5) You may view this material that is incorporated by reference at the National Archives and Records Administration (NARA). For information on the availability of this material at NARA, email fr.inspection@nara.gov, or go to https://www.archives.gov/federal-register/cfr/ibr-locations.html.

Issued on August 12, 2021.
Lance T. Gant,
Director, Compliance & Airworthiness Division, Aircraft Certification Service.

[FR Doc. 2021-17974 Filed 8-18-21; 11:15 am]

BILLING CODE 4910-13-P